DEPARTMENT OF COMMERCE

National Institute of Standards and Technology

Visiting Committee on Advanced Technology

AGENCY: National Institute of Standards and Technology Department of Commerce.

ACTION: Notice of Public Meeting.

SUMMARY: Pursuant to the Federal Advisory Committee Act, 5 U.S.C. app. 2, notice is hereby given that the Visiting Committee on Advanced Technology (VCAT), National Institute of Standards and Technology (NIST), will meet Tuesday, February 5, 2008, from 8:30 a.m. to 5 p.m. and Wednesday, February 6, 2008, from 8 a.m. to 12 p.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. Agenda items will include preparation of the VCAT annual report, with break-out sessions for the three sub-committee groups on Information Technology, Nanotechnology, and Biosciences to discuss recommendations made to NIST throughout the year, with input back to the full committee. The agenda may change to accommodate Committee business. The final agenda will be posted on the NIST Web site at http://www.nist.gov/director/vcat/agenda.htm.

Anyone wishing to attend this meeting must submit name, e-mail address and phone number to Denise Herbert (denise.herbert@nist.gov or 301-975-5607) no later than February 1, 2008.

DATES: The meeting will convene on February 5, 2008, at 8:30 a.m. and will adjourn on February 6, 2008, at 12 p.m.

ADDRESSES: The meeting will be held in the Employees Lounge, Administration Building, at NIST, Gaithersburg, Maryland. All visitors to the NIST site will have to pre-register to be admitted. Please submit your name, time of arrival, e-mail address and phone number to Denise Herbert no later than Friday, February 1, 2008, and she will provide you with instructions for admittance. Ms. Herbert's e-mail address is denise.herbert@nist.gov and her phone number is (301) 975-5607.

FOR FURTHER INFORMATION CONTACT: Denise Herbert, Visiting Committee on Advanced Technology, National Institute of Standards and Technology, Gaithersburg, Maryland 20899-1000, telephone number (301) 975-5607.

Dated: January 9, 2008.
Richard Kayser,
Acting Deputy Director.

[FR Doc. E8-537 Filed 1-14-08; 8:45 am]

BILLING CODE 3510-13-P